DEPARTMENT OF COMMERCE

National Oceanic and Atmospheric Administration

[I.D. 032701B]

Western Pacific Fishery Management Council; Public Meeting

AGENCY: National Marine Fisheries Service (NMFS), National Oceanic and Atmospheric Administration (NOAA), Commerce.

ACTION: Notice of public meeting.

SUMMARY: The Council’s Pelagics Plan Team (PPT) members will hold a meeting.

DATES: The meeting will be held May 1-3, 2001, from 8:30 a.m. to 5 p.m. each day.

ADDRESSES: The meeting will be held at the Western Pacific Fishery Management Council office, 1164 Bishop St., Suite 1400, Honolulu, HI 96813.

FOR FURTHER INFORMATION CONTACT: Kitty M. Simonds, Executive Director; telephone: 808-522-8220.

SUPPLEMENTARY INFORMATION: The PPT meeting will discuss and may make recommendations to the Council on the following agenda items:

1. Pelagic fisheries annual report modules.

2. Pelagic fisheries research.

3. Offshore pelagic handline fishery conflicts around the Main Hawaiian Islands. There are concerns about unregulated entry into the offshore pelagic handline fishery based out of Kona on the island of Hawaii that fishes on the Cross Seamount and several NOAA weather buoys. Fishermen participating in this fishery would like to see the implementation of a limited entry program. Fish aggregating devices (FADs) are being deployed in increasing numbers by offshore pelagic handline fishermen based at Hilo on the island of Hawaii. Disputes have arisen from fishermen using these “private” FADs.

4. Recreational fisheries projects.

5. Mitigation of turtle interactions in pelagic fisheries, including effects of Environmental Impact Statement and Section 7 Biological Opinion on Western Pacific pelagic fisheries and research into turtle mitigation.

6. Shark management, including maximum sustainable yield for blue sharks, Federal and State of Hawaii shark finning regulations and revision of amendment 9 to the Pelagics Fisheries Management Plan concerning management of shark catches.

7. Seabird management, including modification of Council framework measures to implement the terms of the November 2000 U.S. Fish and Wildlife Service Section 7 Biological Opinion for short-tail albatross.

8. U.S. Fish and Wildlife Service Refuges at Kingman Reef and Palmyra.

9. Re-categorization of Hawaii longline fishery under Marine Mammal Protection Act.

10. Pacific Council’s Highly Migratory Species Fishery Management Plan.

11. Foreign fishing ventures in the Northern Mariana Islands.

12. Purse seine fisheries and untethered FADs.

13. Upcoming meetings.

14. Other Business as required.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: March 28, 2001.
Richard W. Surdi,
Acting Director, Office of Sustainable Fisheries, National Marine Fisheries Service.

[FR Doc. 01-8295 Filed 4-3-01; 8:45 am]

BILLING CODE 3510-22-S